DEPARTMENT OF AGRICULTURE

Forest Service

Superior National Forest; Minnesota; Application for Withdrawal

AGENCY: Forest Service, USDA.

ACTION: Notice of intent to prepare an environmental impact statement.

SUMMARY: The United States Forest Service (USFS) has submitted an application to the Secretary of Interior proposing a withdrawal of approximately 234,328 acres of National Forest System (NFS) lands, for a 20-year term, within the Rainy River Watershed on the Superior National Forest from disposition under United States mineral and geothermal leasing laws, subject to valid existing rights. This proposal will also include an amendment to the Superior National Forest Land and Resource Management Plan to reflect this withdrawal.

The purpose of the withdrawal request is protection of the natural resources and waters located on NFS lands from the potential adverse environmental impacts arising from exploration and development of fully Federally-owned minerals conducted pursuant to the mineral leasing laws within the Rainy River Watershed that flow into the Boundary Waters Canoe Area Wilderness (BWCAW) and the Boundary Waters Canoe Area Wilderness Mining Protection Area (MPA) in northeastern Minnesota. The USFS acknowledges this proposed request subjects these NFS lands to temporary segregation for up to 2 years from entry under the United States mineral and geothermal leasing laws. The lands have been and will remain open to such forms of use and disposition as may be allowed by law on National Forest System lands including the disposition of mineral materials. The USFS recognizes that any segregation or withdrawal of these lands will be subject to valid existing rights and therefore inapplicable to private lands owned in fee, private mineral estates, and private fractional minerals interests. This notice also gives the public an opportunity to comment on the proposed request for withdrawal, and announces the opportunity for a future public meeting.

DATES: Comments concerning the proposed request for withdrawal and the scope of the environmental analysis must be received by April 13, 2017. This Notice coincides with the Bureau of Land Management's (BLM) “Notice of Application for Withdrawal and Notification of Public Meeting” announced today in the Federal Register. The USFS comment period for the EIS is commensurate with the BLM's 90-day comment period associated with the consideration of the USFS application to propose a withdrawal of approximately 234,328 acres of NFS lands from disposition under United States mineral and geothermal leasing laws (subject to valid existing rights) within the Rainy River Watershed on the Superior National Forest.

The draft environmental impact statement is expected June 2018 and the final environmental impact statement is expected January 2019. The USFS and BLM will hold a public meeting within the initial 90-day comment period to gather public input on the proposed request for withdrawal. This meeting will be held at the Duluth Entertainment and Convention Center on March 16, 2017 from 5:00 to 7:30 p.m. CT (350 Harbor Drive, Duluth, MN 55802). The USFS will publish a notice of the meeting location and time in a local newspaper at least 30 days before the scheduled date of the meeting.

ADDRESSES: Address written comments regarding the environmental effects associated with this proposed request for withdrawal to Connie Cummins, Forest Supervisor, Superior National Forest. Written comments are to be mailed to 8901 Grand Avenue Place, Duluth, MN 55808-1122. Comments may also be sent via email to comments-eastern-superior@fs.fed.us or via facsimile to 218-626-4398.

FOR FURTHER INFORMATION CONTACT: Matt Judd, Superior National Forest (218-626-4382). The Superior National Forest Web site (https://www.fs.usda.gov/projects/superior/landmanagement/projects) also contains information relative to this proposed request for withdrawal.

Individuals who use telecommunication devices for the deaf (TDD) may call the Federal Information Relay Service (FIRS) at 1-800-877-8339 between 8 a.m. and 8 p.m., Eastern Time, Monday through Friday. This relay service is available 24 hours a day, 7 days a week, to leave a message or question. You will receive a reply during normal business hours.

SUPPLEMENTARY INFORMATION: The USFS has submitted an application on January 5, 2017 to the Secretary of the Interior proposing to withdraw the identified lands from disposition under United States mineral and geothermal leasing laws (subject to valid existing rights) for a period of 20 years.

All the NFS Lands identified in this application are described in Appendix A and displayed on a map in Appendix B. This application is available upon request at the Superior National Forest office (8901 Grand Ave Place, Duluth, MN 55808) or their Web site (https://www.fs.usda.gov/projects/superior/landmanagement/projects). The lands depicted on this map include NFS lands in the townships below, and all non-Federal lands within the exterior boundaries described below that are subsequently acquired by the Federal government to the boundary of the Boundary Waters Canoe Area Wilderness (BWCAW) and the Boundary Waters Canoe Area Wilderness Mining Protection Area (MPA).

National Forest System Lands

Superior National Forest

4th Principal Meridian, Minnesota

Tps. 61 and 62 N., Rs. 5 W.,

Tps. 60 to 62 N., Rs. 6 W.,

Tps. 59 and 61 N., Rs. 7 W.,

Tps. 59 to 61 N., Rs. 8 W., to the boundary of the BWCAW

Tps. 58 to 61 N., Rs. 9 W., to the boundary of the BWCAW

Tps. 57 to 62 N., Rs. 10 W.,

Tps. 57 to 63 N., Rs. 11 W.,

Tp. 59 N., R. 12 W.,

Tps. 61 to 63 N., Rs. 12 W.,

Tps. 61 to 63 N., Rs. 13 W.,

Tp. 63 N., R. 15 W.,

Tp. 63 N., R. 16 W.,

Tps. 65 to 67 N., Rs. 16 W.,

Tp. 64 N., R. 17 W.,

The areas described contain approximately 234,328 acres of NFS lands that overlay Federally-owned minerals in Cook, Lake, and Saint Louis Counties, Minnesota located adjacent to the BWCAW and the MPA.

Purpose and Need for Action

The purpose of this withdrawal request is protection of NFS lands located in the Rainy River Watershed, and preservation of NFS lands within the BWCAW, from the potential adverse environmental impacts arising from exploration and development of fully Federally-owned minerals conducted pursuant to the Federal mineral leasing laws.

The 234,328 acres of Federal land in this proposed request for withdrawal are located within the Rainy River watershed on the Superior National Forest and are adjacent to the BWCAW and MPA. There is known interest in the development of hardrock minerals that have been found—and others that are thought to exist—in sulfide-bearing rock within this portion of the Rainy River Watershed. Any development of these mineral resources could ultimately result in the creation of permanently stored waste materials and other conditions upstream of the BWCAW and the MPA with the potential to generate and release water with elevated levels of acidity, metals, and other potential contaminants. Additionally, any failure of mitigation measures, containment facilities or remediation efforts at mine sites and their related facilities located upstream of the BWCAW and the MPA could lead to irreversible impacts upon natural resources and the inability to meet the purposes for the designation of the BWCAW and the MPA specified by Sec. 2 of Public Law 95-495, 92 Stat. 1649 (1978) and the inability to comply with Section 4(b) of the 1964 Wilderness Act. These concerns are exacerbated by the likelihood that perpetual maintenance of waste storage facilities along with the perpetual treatment of water discharge emanating from the waste storage facilities and the mines themselves would likely be required to ameliorate these adverse effects. Yet, it is not at all certain that such maintenance and treatment can be assured over many decades.

Proposed Action

The United States Forest Service (USFS) has submitted an application to the Secretary of Interior proposing a withdrawal, for a 20-year term, of approximately 234,328 acres of NFS lands within the Rainy River Watershed on the Superior National Forest from disposition under United States mineral and geothermal leasing laws, subject to valid existing rights. This proposal will also include an amendment to the Superior National Forest Land and Resource Management Plan to reflect this withdrawal.

Possible Alternatives

In addition to the USFS proposal, a “no action” alternative will be analyzed, and no additional alternatives have been identified at this time. No alternative sites are feasible because the lands subject to the withdrawal application are the lands for which protection is sought from the impacts of exploration and development under the United States mineral and geothermal leasing laws.

Lead and Cooperating Agencies

The USFS will be the lead agency. The USFS will designate the BLM as a cooperating agency. The BLM shall independently evaluate and review the draft and final environmental impact statements and any other documents needed for the Secretary of Interior to make a decision on the proposed withdrawal.

Responsible Official

Forest Supervisor, Superior National Forest.

Nature of Decision To Be Made

The Responsible Official will complete an environmental impact statement, documenting the information and analysis necessary to support a decision on withdrawal, and to support an amendment to the Superior National Forest Land and Resource Management Plan.

The Secretary of Interior is the authorized official to approve a proposal for withdrawal.

The Responsible Official is the authorized official to approve an amendment to the Superior National Forest Land and Resource Management Plan to reflect the proposed withdrawal.

Scoping Process

This notice of intent initiates the scoping process, which guides the development of the environmental impact statement. The USFS and Bureau of Land Management (BLM) will hold a public meeting within the initial 90-day comment period to gather public input on the proposed request for withdrawal. This meeting will be held at the Duluth Entertainment and Convention Center on March 16, 2017 from 5:00 to 7:30 p.m. CT (350 Harbor Drive, Duluth, MN 55802). Further opportunities for public particpation will be provided upon publication of the Draft EIS, including a minimum 45-day public comment period. A plan amendment is subject to pre-decisional objection procedures at 36 CFR 219, Subpart B.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: January 6, 2017.
Richard Periman,
Deputy Forest Supervisor.

[FR Doc. 2017-00506 Filed 1-12-17; 8:45 am]

BILLING CODE 3410-11-P